OFFICE OF THE UNITED STATES TRADE REPRESENTATIVE

Determination Regarding Waiver of Discriminatory Purchasing Requirements With Respect to Goods and Services Covered by Chapter 9 of the Dominican Republic-Central America-United States Free Trade Agreement for Costa Rica

AGENCY: Office of the United States Trade Representative.

ACTION: Determination under Trade Agreements Act of 1979.

DATES: Effective Date: January 1, 2009.

FOR FURTHER INFORMATION CONTACT: Jean Heilman Grier, Senior Procurement Negotiator, Office of the United States Trade Representative, (202) 395-9476, or Maria Pagan, Associate General Counsel, Office of the United States Trade Representative, (202) 395-9626.

On August 5, 2004, the United States and Costa Rica entered into the Dominican Republic-Central America-United States Free Trade Agreement (“the CAFTA-DR”). Chapter 9 of the CAFTA-DR sets forth certain obligations with respect to government procurement of goods and services, as specified in Annex 9.1.2(b)(i) of the CAFTA-DR.

The United States approved the CAFTA-DR through the Dominican Republic-Central America-United States Free Trade Agreement Implementation Act (“the CAFTA-DR Act”) (Pub. L. No. 109-53, 119 Stat. 462) (19 U.S.C. 4001 et seq.). The CAFTA-DR entered into force for Costa Rica on January 1, 2009.

Section 1-201 of Executive Order 12260 of December 31, 1980 (46 FR 1653) delegates the functions of the President under Sections 301 and 302 of the Trade Agreements Act of 1979 (“the Trade Agreements Act”) (19 U.S.C. 2511, 2512) to the United States Trade Representative.

Now, therefore, I, Susan C. Schwab, United States Trade Representative, in conformity with the provisions of Sections 301 and 302 of the Trade Agreements Act and Executive Order 12260, and in order to carry out U.S. obligations under Chapter 9 of the CAFTA-DR, do hereby determine that:

1. Costa Rica is a country, other than a major industrialized country, which, pursuant to the CAFTA-DR, will provide appropriate reciprocal competitive government procurement opportunities to United States products and suppliers of such products. In accordance with Section 301(b)(3) of the Trade Agreements Act, Costa Rica is so designated for purposes of Section 301(a) of the Trade Agreements Act.

2. With respect to eligible products of Costa Rica (i.e., goods and services covered by the Schedules of the United States in Annex 9.1.2(b)(i) of the CAFTA-DR) and suppliers of such products, the application of any law, regulation, procedure, or practice regarding government procurement that would, if applied to such products and suppliers, result in treatment less favorable than accorded—

(A) To United States products and suppliers of such products; or

(B) To eligible products of another foreign country or instrumentality which is a party to the Agreement on Government Procurement referred to in section 101(d)(17) of the Uruguay Round Agreements Act (19 U.S.C. 3511(d)(17)) and suppliers of such products, shall be waived.

With respect to Costa Rica, this waiver shall be applied by all entities listed in the Schedules of the United States in Section A of Annex 9.1.2.(b)(i) and in List A of Section B of Annex 9.1.2(b)(i) of the CAFTA-DR.

3. The designation in paragraph 1 and the waiver in paragraph 2 are subject to modification or withdrawal by the United States Trade Representative.

Dated: December 30, 2008.
Susan C. Schwab,
United States Trade Representative.

[FR Doc. E8-31406 Filed 1-5-09; 8:45 am]

BILLING CODE 3190-W9-P